DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Northeast Fisheries Observer Program Fishermen's Comment Card.

Form Number(s): None.

OMB Approval Number: None.

Type of Request: Regular submission.

Burden Hours: 260.

Number of Respondents: 520.

Average Hours Per Response: 15 minutes.

Needs and Uses: The Comment Card will help Northeast Fisheries Observer Program assess observer performance (i.e., contractor performance), ensure higher data quality, help to detect fraud and provide the fishermen with a direct line of communication to the program management. This is a tailored qualitative customer survey for fishermen having had observers on their vessels to provide direct feedback on observer performance to the National Marine Fisheries Service. This will be collected on a voluntary basis. The Fishermen's Comment Card is available to all fishermen who have had a certified Northeast Fisheries Observer Program observer onboard their vessel. The captain, owner, or crew member in charge may complete the survey.

Affected Public: Business or other for-profit organizations.

Frequency: Semi-annually.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: January 26, 2006.
Gwellnar Banks,
Management Analyst, Office of the Chief Information Officer.

[FR Doc. E6-1300 Filed 1-31-06; 8:45 am]

BILLING CODE 3510-22-P